DEPARTMENT OF VETERANS AFFAIRS

[OMB Control No. 2900-0098]

Proposed Information Collection (Survivors' and Dependents' Application for VA Education Benefits)

AGENCY: Veterans Benefits Administration, Department of Veterans Affairs.

ACTION: Notice; request for comments.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to determine a Veteran's or Servicemember's spouse, surviving spouse, or child eligibility for Survivors' and Dependents' Educational Assistance and Fry Scholarship benefits.

DATES: Written comments and recommendations on the proposed collection of information should be received on or before April 6, 2015.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-0098” in any correspondence. During the comment period, comments may be viewed online through the FDMS.

FOR FURTHER INFORMATION CONTACT: Nancy J. Kessinger at (202) 632-8924 or FAX (202) 632-8925.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, VBA invites comments on:

(1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Dependents' Application for VA Educational Benefits (Under Provisions of Chapters 33 and 35, of title 38 U.S.C.), VA Form 22-5490.

OMB Control Number: 2900-0098.

Type of Review: Revision of a currently approved collection.

Abstract: VA Form 22-5490 is completed by spouses and children of veterans or servicemembers to apply for Survivors' and Dependents' Educational Assistance (DEA) and Post-9/11 GI Bill Marine Gunnery Sergeant John David Fry Scholarship (Fry Scholarship) mailed to service-connected disabled veterans who submitted an application for vocational rehabilitation benefits. VA will use data collected to determine the types of rehabilitation program the Veteran will need.

Affected Public: Individuals or households.

Estimated Annual Burden: 52,251 hours.

Estimated Average Burden per Respondent: 33,590 paper copy: 45 minutes—18,661 electronically: 25 minutes.

Frequency of Response: Annually.

Estimated Number of Respondents: 89,574.

Dated: January 29, 2015.
By direction of the Secretary.
Crystal Rennie,
VA Clearance Officer, Department of Veterans Affairs.

[FR Doc. 2015-02060 Filed 2-2-15; 8:45 am]

BILLING CODE 8320-01-P